ENVIRONMENTAL PROTECTION AGENCY

[FRL-9719-3]

Good Neighbor Environmental Board Notification of Public Advisory Committee Teleconference

AGENCY: Environmental Protection Agency (EPA).

ACTION: Notification of Public Advisory Committee Teleconference.

SUMMARY: Pursuant to the Federal Advisory Committee Act, notice is hereby given that the Good Neighbor Environmental Board (GNEB) will hold a public teleconference on March 22, 2012 from 12 p.m. to 5 p.m. Eastern Standard Time. The meeting is open to the public. For further information regarding the teleconference and background materials, please contact Mark Joyce at the number listed below.

Background: GNEB is a federal advisory committee chartered under the Federal Advisory Committee Act, Public Law 92463. GNEB provides advice and recommendations to the President and Congress on environmental and infrastructure issues along the U.S. border with Mexico.

Purpose of Meeting: The purpose of this teleconference is to discuss the Good Neighbor Environmental Board's Fifteenth Report. The report will focus on water infrastructure issues in the U.S.-Mexico border region.

SUPPLEMENTARY INFORMATION: If you wish to make oral comments or submit written comments to the Board, please contact Mark Joyce at least five days prior to the meeting.

General Information: Additional information concerning the GNEB can be found on its Web site at www.epa.gov/ofacmo/gneb.

Meeting Access: For information on access or services for individuals with disabilities, please contact Mark Joyce at (202) 564-2130 or email at joyce.mark@epa.gov. To request accommodation of a disability, please contact Mark Joyce at least 10 days prior to the meeting to give EPA as much time as possible to process your request.

Dated: August 8, 2012.
Mark Joyce,
Acting Designated Federal Officer.

[FR Doc. 2012-20520 Filed 8-20-12; 8:45 am]

BILLING CODE P